DEPARTMENT OF COMMERCE

National Oceanic and Atmospheric Administration

[I.D. 082202E]

Proposed Information Collection; Comment Request; Socio-economic Assessment of Marine Protected Areas Management Preferences

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 28, 2002.

ADDRESSES: Direct all written comments to Madeleine Clayton, Departmental Paperwork Clearance Officer, Department of Commerce, Room 6086, 14th and Constitution Avenue NW., Washington DC 20230 (or via Internet at MClayton@doc.gov).

FOR FURTHER INFORMATION CONTACT: Requests for additional information or copies of the information collection instrument(s) and instructions should be directed to Dr. Juan Agar, Department of Commerce, NOAA, National Marine Fisheries Service, Southeast Fisheries Science Center, 75 Virginia Beach Drive, Miami, FL 33149, (305-361-4218).

SUPPLEMENTARY INFORMATION:

I. Abstract

The National Marine Fisheries Service proposes to conduct a survey to collect socio-economic data to strengthen the management, protection, and conservation of existing and proposed Marine Protected Areas (MPAs) in the U.S. Caribbean (Puerto Rico and US Virgin Islands). MPAs are any area of the marine environment that has been reserved by Federal, State, territorial, tribal, or local laws or regulations to provide lasting protection for part or all of the natural and cultural resources therein. The survey intends to collect demographic, cultural and economic information from communities that are dependent on the estuarine and marine resources for their livelihood. The proposed data collection is necessary to develop science-based criteria and protocols to identify and evaluate the economic impacts of management decisions. The information will be used to protect the sustainable use of estuarine and marine ecosystems for present and future generations. The information collected will also be used to satisfy legal mandates under Executive Order 13158, Magnuson-Stevens Fishery Conservation Act, National Marine Sanctuaries Act, National Wildlife Refuge Administration Act, Coastal Zone Management Act, National Environmental Policy Act, and other pertinent statues.

II. Method of Collection

The socio-economic information will be collected via personal interviews and mail surveys.

III. Data

OMB Number: None.

Form Number: None.

Type of Review: Regular submission.

Affected Public: Business and other for-profit organizations.

Estimated Number of Respondents: 700.

Estimated Time Per Response: 1 hour.

Estimated Total Annual Burden Hours: 700.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 21, 2002.
Gwellnar Banks,
Management Analyst, Office of the Chief Information Officer.

[FR Doc. 02-21812 Filed 8-27-02; 8:45 am]

BILLING CODE 3510-22-S